DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: Joint Recruiting Advertising Program (JRAP); OMB Number 0704-0351.

Type of Request: Reinstatement.

Number of Respondents: 141,497.

Responses Per Respondent: 1.

Annual Responses: 141,497.

Average Burden Per Response: 6 minutes.

Annual Burden Hours: 13,239.

Needs and Uses: Title 10, U.S. Code, Section 503, directs the Secretary of Defense to conduct intensive recruiting campaigns for the Armed Forces. In addition, the Secretary of Defense commissioned an independent review of military advertising. The results stress that the U.S. Armed Forces must find innovative ways to quickly capture and respond to the changing opinions and attitudes of military-eligible youth. The U.S. Armed Forces must continually refocus its advertising in this turbulent environment in order to ensure its message in timely and effective.

The Joint Market Research Program (JMRP) supports recruitment efforts by providing quick response, short duration, polling and surveying of youth in the United States. The primary goal of the JMRP is to obtain and disseminate timely information on the attitudes, opinions, trends, expectations, and aspirations held by today's youth. This information will become the foundation from which advertising messages will be crafted.

The Joint Recruiting Advertising Program (JRAP) supports Armed Forces recruitment efforts with cost-effective advertising. The JRAP ROTC Scholarship Folder, recruiting print advertisements, www.myfuture.com, Selective Service System Direct Mail brochures, and other direct mail brochures provide individuals with information about opportunities available in the Armed Forces. Individuals are provided with Business Reply Cards (BRCs) that they may voluntarily fill out to request additional information about the Armed Forces. When one branch of the Armed Forces receives a BRC, the information is promptly sent to the BRC respondent. The name of the BRC respondent is then added to mailing lists used by the Services for future mailings of Service-related enlistment, officer, and scholarship information brochures.

Additionally, Bates World Wide, JRAP's contracted advertising agency conducts short duration focus groups to obtain feedback from targeted populations (e.g. pre-teens, parents, teenagers, and young adults) concerning the marketability of television commercials and print advertisements. Questions are specifically targeted at the advertisement and no intrusive questions are asked.

Affected Public: Individuals or Households.

Frequency: On Occasion.

Respondent's Obligations: Voluntary.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: March 10, 2000.
Patricia L. Toppings,
Alternate OSD Federal Register Liaison Officer, Department of Defense.

[FR Doc. 00-6431 Filed 3-15-00; 8:45 am]

BILLING CODE 5001-10-M